DEPARTMENT OF AGRICULTURE

Forest Service

White River National Forest; and Grand Mesa, Uncompahgre, and Gunnison National Forests; Bull Mountain Natural Gas Pipeline

AGENCY: Forest Service, USDA.

ACTION: Notice of Intent (NOI) to conduct scoping and prepare an Environmental Impact Statement (EIS) for the Bull Mountain Natural Gas Pipeline Project, Delta, Garfield, Gunnison, and Mesa Counties, Colorado.

SUMMARY: SG Interests I, LTD (SGI) of Houston, Texas, has submitted to the White River National Forest, the Grand Mesa, Uncompahgre and Gunnison National Forests, and the Bureau of Land Management (BLM) Glenwood Springs Field Office, a proposal to authorize SGI to construct, operate and maintain a 20-inch pipeline system to transport natural gas from production operations in the Bull Mountain Unit, 21 miles northeast of Paonia, CO, to the existing Divide Creek pipeline system, 10 miles south of Silt, CO, for delivery into interstate natural gas pipeline systems. The proposed pipeline crosses portions of Gunnison, Delta, Mesa, and Garfield Counties, CO. In addition to the natural gas pipeline, an 8-inch water pipeline would be installed in the same trench during the construction operations. The water pipeline would transport produced water from well drilling activities to a commercially available disposal facility at the north end of the pipeline. SGI has submitted a right-of-way application and temporary use are application to the Glenwood Springs Field Office of the BLM, which is the authorizing agency for natural gas pipelines under the Mineral Leasing Act where the lands are managed by two or more Federal agencies.

Total length of the proposed pipeline is approximately 252.5 miles, starting on private land located in Section 10, T11S, R90W, 21 miles northeast of Paonia, CO, and traversing north approximately 8.2 miles on the Grad Mesa, Uncompahgre and Gunnison National Forests to the White River National Forest boundary. It then continues north for 8.1 miles in the White River National Forest-Rifle Ranger District. From the White River National Forest, it traverses approximately 3.5 miles of BLM, and then crosses onto private lands at Section 5, T8S, R91W (5.6 miles total on private land for entire length), and connects the existing Divide Creek pipeline located in Section 1, T8S, R92W. The proposed pipeline route starts in Gunnison County on the south end, and crosses north through portions of Delta, and Mesa Counties, and ending at the Divide Creek Compressor Station in Section 1, T8S, R92W, Garfield County, CO. The proposed pipeline route follows existing pipeline routes for approximately 44% of the entire length across all land ownerships. On National Forest lands, the proposed pipeline route follows existing pipeline routes for approximately 57% of the total proposed route on National Forest lands. The proposed pipeline deviates from existing pipeline routes for engineering constructability issues or to avoid private land where there have been landowner objections.

In addition to the pipeline proposals, the proposal action includes proposals by the White River National Forest and the Grand Mesa, Uncompahgre and Gunnison National Forests to change the area within and adjacent to the proposed pipeline right-of-way to a “Utility Corridor” management prescription. This would require a Forest Plan amendment for each Forest. These Forest Plan amendments would be considered non-significant per Forest Service Manual (FSM) 1922.51-2. “Adjustments of management area boundaries or management prescriptions [that] do not cause significant changes in multiple use goals and objectives for long-term land and resource management.” The Plan amendments would place the lands in the appropriate management prescription for utility corridors. This management prescription describes the desired condition, and contains standards and guidelines that are appropriate for utility corridors. The proposed utility corridor management area designation may be from 8-12 miles in length on each Forest, depending on the analysis.

DATES: Comments concerning the proposal and the scope of the analysis will be accepted and considered at any time after publication of this notice in the Federal Register and prior to a decision being made. To be most helpful in the design of the proposed action, development of any alternatives, project design features, mitigation measures, and the subsequent environmental analysis, comments should be received within 45 days of publication of this NOI in the Federal Register. A scoping notice will also be distributed by mail to a project mailing list on, or about, the date that this notice is published in the Federal Register. Public meetings will be announced through local news media sources such as the Glenwood Springs Post Independent, Grand Junction Daily Sentinel, Delta County Independent, and the Rifle Citizen Telegram. Detailed information about the proposed action, including maps and pending public meetings will also be posted on the White River National Forest Web site at: http://www.fs.fed.us/r2/whiteriver. Comments received, including the names and addresses of those who comment, will be considered part of the public record on this proposal and will be available for public inspection. An electronic e-mail address for comments is available at: comments-rocky-mountain-white-river@fs.fed.us. Please include the project name in the subject line of your e-mail comments.

A draft EIS (DEIS) is expected to be filed with the Environmental Protection Agency (EPA) and available for public review during March, 2006. When a DEIS is available, the EPA will publish a Notice of Availability (NOA) in the Federal Register. The comment period on the DEIS will be for a period of not less than 45 days from the date the EPA publishes the NOA in the Federal Register. The final EIS is expected to be available in August, 2006.

ADDRESSES: Comments submitted in writing should be mailed to: District Ranger, White River National Forest, Rifle Ranger District, 0094 County Road 244, Rifle, Colorado, 81650.

In addition, e-mail comments can be submitted to comments-rocky-mountain-white-river@fs.fed.us. Please include the project name in the subject line of your e-mail. Comments should include: (1) Name, address, telephone number, organization represented, if any; (2) title of the document on which the comment is being submitted; and (3) specific facts and supporting reasons for the Responsible Official to consider.

FOR FURTHER INFORMATION CONTACT: Julie Grode, Project Manager, GMUG NF, Grand Valley Ranger District, 2777 Crossroads Blvd., Unit 1, Grand Junction, Colorado, 81506. Telephone 970-263-5828, or Fax 970-263-5819. Telephone for the Hearing Impaired is 970-945-3255. In addition, information about the proposal, including details of the proposed action and maps, will be posted on the White River National Forest Web site at: www.fs.fed.us/r2/whiteriver.

SUPPLEMENTARY INFORMATION:

Purpose and Need for Action

The purpose and need of this action is to authorize SG Interests I, LTD to construct, operate and maintain a 20-inch natural gas pipeline and an 8-inch water pipeline on National Forest System and Bureau of Land Management lands. The need for the construction of the Bull Mountain Pipeline is to transport natural gas from production operations in the Bull Mountain Gas Leasing Unit for delivery into interstate natural gas pipeline systems, in order to provide energy resources to the national energy market. The “Greasewood Hub”, near Meeker, Colorado is the interstate system to which the natural gas from the Bull Mountain Pipeline would be delivered. The existing 6-inch Ragged Mountain Pipeline (RMP), which is near the Bull Mountain production area, does not have the capacity to transport anticipated natural gas production from the Bull Mountain Unit and adjacent gas leasing units.

A secondary action is proposed by the White River National Forest and the Grand Mesa, Uncompahgre, Gunnison National Forests to create amendments to their respective Forest Plans. The amendments would change the current management prescriptions in a corridor along and adjacent to the final route of the proposed pipeline, if authorized by the BLM, to a “Utility Corridor” management prescription. The purpose and need to change the Forest Plan management prescriptions along the pipeline corridor is to allow for primary management goals in each Forest Plan to be consistent with future on-the-ground management within the utility corridor.

Proposed Action

Total proposed pipeline system length is approximately 25.5 miles. A 4-acre compressor station site would be located on the southern end of the project on private lands and this proposal will be considered a connected action for this analysis. The proposed action maximizes use of existing pipeline and roadway corridors for new construction, existing transportation to interstate pipelines, and has been designed with capacity allowances to meet foreseeable production increases. The proposed pipeline route follows existing pipeline routes for approximately 44% of the entire length across all land ownerships. On federal lands, the proposed pipeline route follows existing pipeline routes for approximately 57% of the total proposed route. In addition to the 20-inch natural gas pipeline, an 8-inch water pipeline will be installed in the same ditch during the construction operations. The water pipeline would transport produced water to a commercially available disposal facility at the north end of the project, as a disposal facility is not available in the Bull Mountain Unit area. The 20-inch and 8-inch pipeline and related facilities will be designed to Department of Transportation (DOT) CFR 39 part 192 standards and American National Standards Institute (ANSI) Class 600 specification with launchers and receivers for pigging. Pipeline burial depths will be 36 inches below grade in normal soil, 48 inches below grade across streams, or 18 inches below grade in solid rock. Additional depth requirements will be viewed on a case by case basis. Variable width temporary use areas (TUA) are requested to accommodate construction. A temporary right-of-way of 75 feet would be used during the construction, with some additional Temporary Use Areas for vehicle and equipment parking and vehicle turn-a-rounds. A permanent right-of-way of 50-feet would be granted if the proposal is approved. Construction operations would include clearing of up to 100 foot corridor of vegetation, in most cases 75 feet, moving in heavy equipment and the 20″ and 8″ pipe sections, digging trench for pipeline up to 48″ deep, revegetation and reclamation of disturbed areas after pipeline construction. An approximate 10-12 feet wide corridor of non-forested (grassland and shrub) habitat would be maintained for the lifetime of the pipeline permit. The remainder of the cleared 50-foot permanent corridor would be allowed to revegetate to a forested condition, in suitable habitats. Noxious weeds would be monitored and treated by the proponent (SGI) for the lifetime of the pipeline permit.

Total acres impacted, including temporary use areas, during the construction activities would be approximately 295 acres. The permanent 50-foot right-of-way would include approximately 155 acres for the length of the pipeline.

The proposed Bull Mountain pipeline interconnects to the existing 14-inch pipeline at the Divide Creek Compressor Station in Section 1, T8S, R92W, Garfield County, CO. There would be a metering and pigging facility at this proposed interconnect site, and one main line block valve along the route. The proposed pipeline is designed to adequately transport a wide variety of gas volumes to meet presently foreseeable production levels.

The pipeline project crosses T11S, R90W Sections 3, 4 & 10; T10S, R90W Sections 18, 19, 30, 31, 32 & 33; T10S, R91W, Sections 2, 11, 12, & 13; T9S, R91W, Sections 3, 10, 11, 14, 23, 26 & 35; T8S, R91W, Sections 5, 6, 8, 17, 20, 21, 28, 33 & 34; and T8S, R92W, Section 1, within Gunnison, Delta, Mesa, and Garfield Counties, CO. This route starts from a proposed compressor station on private land located in Section 10, T11S, R90W, runs north to intersect the Ragged Mountain Pipeline (RMP) pipeline in Section 33, T10S, R90W (half way between Fed 10-90-32 and Fed 10-90-33 Well locations) and then intersects the RMP pipeline again in between Sections 29 & 32, T10S, R90W. From this point, the route parallels existing pipeline corridors including the Ragged Mountain Pipeline (RMP), Rocky Mountain Natural Gas (RMNG), and Divide Creek Pipeline to the maximum extent possible to make use of the previously cleared corridor areas for construction.

The pipeline route separates from the RMP pipeline to avoid a private property located in Sections 10, 11, 14, T9S, R91W but rejoins it after bypassing that property. The pipeline route then intersects the RMNG 6-inch pipeline located in Section 3, T9S, R91W and parallels this existing pipeline corridor until its separates in Section 33, T8S, R91W. It traverses north on White River National Forest until it moves onto BLM land, following approximately the western boundary between BLM and private lands. The pipeline route heads westerly and crosses onto private lands at Sections 5, 6, T8S, R91W, and connects to the 14-inch Divide Creek Pipeline located in Section 1, T8S, R92W.

The proposed pipeline route passes through a total of 9.2 miles of Inventoried Roadless Areas (IRAs) on National Forest Lands. Approximately 6.7 miles of the 9.2 miles of the proposed pipeline route within National Forest IRAs follow an existing pipeline route constructed in 1982. Specifically, the proposed pipeline route traverses through approximately 6.0 miles on the Grand Mesa, Uncompahgre and Gunnison National Forests Clear Creek Roadless Area #186, 1.4 miles of the White River National Forest Baldy Mountain Roadless Area #67, 1.7 miles of the White River National Forest East Willow Roadless Area #73, and 0.1 mile of the White River National Forest Reno Mountain Roadless Area #66. Total acres impacted by construction activities (including temporary use areas) in inventoried roadless areas on National Forest Lands would be approximately 115 acres. The permanent 50-foot right-of-way for the pipeline would involve approximately 56 acres of inventoried roadless areas.

In addition to the pipeline construction and right-of-way proposals, the proposed action includes proposals by the White River National Forest and the Grand Mesa, Uncompahgre and Gunnison National Forests to change the area following the selected or authorized pipeline route to a “Utility Corridor” management prescription. A “Utility Corridor” is defined in the White River National Forest Plan as a “linear strip of land defined for the present or future location of transportation or utility facilities within its boundaries.” This designation of a utility corridor would require a Forest Plan amendment for each Forest, which would be considered non-significant amendments according to FSM 1922.51-2. “Adjustments of management area boundaries or management prescriptions [that] do not cause significant changes in multiple use goals and objectives for long-term land and resource management.” These Plan amendments would place the land in the appropriate management prescription for utility corridors. This prescription describes the desired condition, and contains standards and guidelines that are appropriate for utility corridors. The actual width of the utility corridor would be determined during the analysis process. The proposed utility corridor management area designation on White River National Forest is 8.15 miles in length and 8.23 miles on the Grand Mesa, Uncompahgre and Gunnison National Forests. The White River National Forest would change the management area prescription for the proposed pipeline right-of-way from the existing prescription of #5.43-Elk Habitat, and #5.41-Deer and Elk Winter Range, to a management prescription of #8.32-Designated Utility Corridor. The Grand Mesa, Uncompahgre and Gunnison National Forests would change the management area prescription for the proposed pipeline right-of-way from the existing prescription of #6B-Livestock Grazing, to a management prescription of #1D-Utility Corridor.

The proposal for the pipeline construction and right-of-way is not contingent upon Forest Plan amendments by the White River National Forest or the Grand Mesa, Uncompahgre and Gunnison National Forests.

Connected Actions

A 4-acre compressor site for the Bull Mountain pipeline is planned to be located on private land on the southern end of the pipeline. Stringent noise abatement structures and techniques would be employed, per agreement with the landowner.

The Henderson lateral pipeline is another pipeline proposed by SGI Interests to transport existing gas production in the Bull Mountain unit 1.7 miles to the Ragged Mountain Gas Gathering System pipeline. This proposal consists of a 6-inch and a 24-inch natural gas steel pipeline to transport natural gas from production operations in the Bull Mountain Unit Area and a 6-inch high density polyethylene (HDPE) to transport produced water from drilling activities. The 24-inch pipeline may also be used as the future suction line from the Bull Mountain Gathering System to feed the proposed Bull Mountain Pipeline. The 6-inch steel pipeline length is approximately 1.2 miles. Total 24-inch steel pipeline length is approximately 0.5 mile. Total 6-inch HDPE pipeline length is approximately 1.7 miles. An environmental analysis is on-going for this project by the Grand Mesa, Uncompahgre, and Gunnison National Forests.

Preliminary Issues

Preliminary issues identified so far include: (1) Impacts of pipeline construction and operation on scenic qualities and roadless character; (2) impacts of vegetation removal causing erosion and additional sediment loads into streams; (3) geologic hazards and unstable soils affecting the stability of the pipeline; (4) noxious weed increases from ground disturbance, imported equipment use and imported materials such as road gravel, seed mixes, and erosion control materials; (5) impacts on existing Forest System roads and increased traffic affecting recreational users during construction; (6) impacts on shallow groundwater resources and springs from pipeline constructions; (7) impacts on existing mineral lease holders and existing natural gas operations, and (8) impacts on streams and wetlands from pipeline construction, road use, and pipeline stream crossings.

The proposal and detailed proposed action is being developed with environmental concerns in mind. Detailed project design criteria and mitigation measures to reduce environmental impacts will be developed and adopted as part of the proposed action and will be listed in the DEIS.

Possible Alternatives

No other alternatives are currently proposed. Several “route options” were considered in the development of the current proposed pipeline route by SGI; however, those options were not incorporated into the proposed route due to constructability and engineering issues and/or due to private landowner refusal to allow access. One or more alternatives to the proposed action may be analyzed for the DEIS, based on issues determined through public scoping.

Lead and Cooperating Agencies

The Forest Service is the lead agency for the NRPA analysis. The BLM will participate as a cooperating agency. The BLM has the authority to authorize a right-of-way for natural gas pipelines under the Mineral Leasing Act, with Forest Service concurrence, when portions of the pipeline are on NFS lands. However, the White River National Forest has prepared a Memorandum of Understanding (MOU) taking on the lead role for the NEPA analysis for the Bull Mountain pipeline project, with the Grand Mesa, Uncompahgre, Gunnison National Forests and the BLM as cooperating agencies.

Responsible Officials

The Responsible Official for making a decision on this proposal for approving a pipeline right-of-way is Jamie Connell, Field Office Manager, Glenwood Springs Field Office of the BLM. The Responsible Official for making a decision on the proposed amendment to the Grand Mesa, Uncompahgre and Gunnison National Forests Land and Resource Management Plan is Charles Richmond, Forest Supervisor, Grand Mesa, Uncompahgre and Gunnison National Forests. The Responsible Official for making a decision on the proposed amendment to the White River National Forest Land and Resource Management Plan is Maribeth Gustafson, Forest Supervisor, White River National Forest. The lead Line Officer for this NEPA analysis is the District Ranger on the Rifle Ranger District, White River National Forest.

Nature of Decisions To Be Made

The decisions to be made are (1) to authorize the right-of-way as proposed by SGI or an alternative; and (2) whether or not to approve Forest Plan amendments for the White River National Forest and the Grand Mesa, Uncompahgre and Gunnison National Forests to change the management area direction for the pipeline right-of-way to a management prescription of a utility corridor. The decision to construct the pipeline construction and permit a right-of-way is not contingent upon Forest Plan amendments to designate the pipeline route as a utility corridor by either the White River National Forest or the Grand Mesa, Uncompahgre and Gunnison National Forests.

Permits or Licenses Required

Additional permits or licenses, which may be required in addition to Forest Service authorizations, include a Stormwater Management Plan and a Department of the Army, Corps of Engineers Clean Water Act Section 404 permit. A complete list of local and federal permits required is available upon request. An operation and monitoring plan will be required from the proponent, which will be approved by the Forest Service and the BLM. Some mitigation measures may be added to the decision for public safety during construction operations.

Early Notice of Importance of Public Participation

The comment period on the draft environmental impact statement will not be less than 45 days from the date the Environmental Protection Agency publishes the notice of availability in the Federal Register.

The Forest Service believes, at this early stage, it is important to give reviewers notice of several court rulings related to public participation in the environmental review process. First, reviewers of draft environmental impact statements must structure their participation in the environmental review of the proposal so that is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record and will be available for public inspection.

(Authority: 40 CFR 1501.7 and 1508.22; Forest Service Handbook 1909.15, Section 21)

Dated: August 24, 2005.
Don Carroll,
Acting Forest Supervisor, White River National Forest.

[FR Doc. 05-17179 Filed 8-29-05; 8:45 am]

BILLING CODE 3410-11-M